DEPARTMENT OF TRANSPORTATION

Federal Highway Administration

Intelligent Transportation Society of America; Public Meeting

AGENCY: Federal Highway Administration (FHWA), US DOT.

ACTION: Notice of public meeting.

SUMMARY: The Intelligent Transportation Society of America (ITS AMERICA) will hold a meeting of its Coordinating Council meeting on Sunday, July 16, 2000. The following designations are made for each item: (A) is an “action” item; (I) is an “information item;” and (D) is a “discussion” item. The agenda includes the following: (1) Call to Order and Introductions (I); (2) Statements of Introductions (I); (3) Antitrust Statement (I); (4) Approval of Previous Minutes (A); (5) Federal Report (I/D); (6) President's Report (I); (7) Federal Communications Commission Advice on Dedicated Short Range Communication at 5.9GHz (A); (8) New Regional Institutions—What is the ITS America Role? (I/D); (9) Workshop Orientation (I/D); (10) Committee Reports (I); (11) Future Coordinating Council Meeting Dates (I/D); (12) Adjournment.

DATES: The Coordinating Council of ITS AMERICA will meet on Sunday, July 16, 2000, from 2 p.m.-5 p.m. (Eastern Standard time).

ADDRESSES: Radisson Hotel—Berkley Marina, 200 Marina Boulevard, Berkley, CA 94710 Phone: (510) 548-7920; Fax: (510) 548-7944.

FOR FURTHER INFORMATION CONTACT: Materials associated with this meeting may be examined at the offices of ITS AMERICA, 400 Virginia Avenue, SW., Suite 800, Washington, D.C. 20024. Persons needing further information or to request to speak at this meeting should contact Larry Schulman at ITS AMERICA by telephone at (202) 484-4847, or by Fax at (202) 484-3483.

The DOT contact is Kristy Frizzell, FHWA, HOIT, Washington, D.C. 20590, (202) 366-9536. Office hours are from 8:30 a.m. to 5 p.m., e.t., Monday through Friday, except for legal holidays.

(23 U.S.C. 315; 49 CFR 1.48)

Issued on: Wednesday, May 24, 2000.
Jeffrey Paniati,
Deputy Director, ITS Joint Program Office.

[FR Doc. 00-13698 Filed 5-31-00; 8:45 am]

BILLING CODE 4910-22-P